DEPARTMENT OF LABOR

Employment and Training Administration

20 CFR Part 655

RIN 1205-AB24

Labor Certification and Petition Process for Temporary Agricultural Employment of Nonimmigrant Workers in the United States (H-2A Workers); Modification of Fee Structure; Informal Briefing

AGENCY: Employment and Training Administration, Labor.

ACTION: Proposed rule; notice of informal briefing.

SUMMARY: The Division of Foreign Labor Certification, Employment and Training Administration (ETA), Department of Labor (Department), announces two informal briefings to allow agricultural workers and employers and other interested parties to communicate directly with the Department regarding proposed rule changes which would require employers to submit fees for temporary alien agricultural labor certification and the associated H-2A petition with a consolidated application form at the time of filing. See proposed rule reopening the comment period, published elsewhere in today's Federal Register. The proposed rule also would modify the fee structure for H-2A labor certification applications. These briefings are being held to allow the Department to solicit individual responses and experiences from interested persons and other entities.

DATES: The briefing dates are:

• Thursday, November 8, 2001, 9:30 a.m. to 4 p.m., Washington, DC.

• Friday, November 16, 2001, 9:30 a.m. to 4 p.m., Monterey, CA.

Notices of intention to appear at the briefing must be postmarked no later than October 11, 2001.

ADDRESSES: The briefing locations are:

• U.S. Department of Labor, Francis Perkins Building, 200 Constitution Avenue, Plaza Level Auditorium, Washington, DC 20010.

• Hilton Monterey, 1000 Oguajito Road, Monterey, CA 93940.

Send notices of intention to appear to: Charlene Giles, U.S. Department of Labor, 200 Constitution Avenue, NW., Room C-4318, Washington, DC 20210. Notices also may be faxed to Charlene Giles at 202-693-2760 (this is not a toll-free number), or submitted by e-mail at dflc@uis.doleta.gov.

FOR FURTHER INFORMATION CONTACT: Charlene Giles; telephone 202-693-2950. (This is not a toll-free number).

SUPPLEMENTARY INFORMATION: The informal public briefings will be chaired by a senior official of the Employment and Training Administration. Persons appearing at the briefings will be allowed to present their views and pose questions of Department staff and other parties presenting their views.

Signed at Washington, DC, this 24th day of September, 2001.
Emily Stover DeRocco,
Assistant Secretary for Employment and Training.

[FR Doc. 01-24209 Filed 9-26-01; 8:45 am]

BILLING CODE 4510-30-P